DEPARTMENT OF EDUCATION

Submission for OMB Review; Comment Request

AGENCY: Department of Education.

SUMMARY: The Director, Information Collection Clearance Division, Regulatory Information Management Services, Office of Management invites comments on the submission for OMB review as required by the Paperwork Reduction Act of 1995.

DATES: Interested persons are invited to submit comments on or before December 16, 2009.

ADDRESSES: Written comments should be addressed to the Office of Information and Regulatory Affairs, Attention: Education Desk Officer, Office of Management and Budget, 725 17th Street, NW., Room 10222, New Executive Office Building, Washington, DC 20503, be faxed to (202) 395-5806 or send e-mail to oira_submission@omb.eop.gov.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The IC Clearance Official, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: November 9, 2009.
Angela C. Arrington,
Director, Information Collection Clearance Division, Regulatory Information Management Services, Office of Management.

Office of Elementary and Secondary Education

Type of Review: Extension.

Title: Annual Performance Report for Reading First.

Frequency: Annually.

Affected Public: Businesses or other for-profit; State, Local, or Tribal Gov't.

Reporting and Recordkeeping Hour Burden:

Responses: 54.

Burden Hours: 810.

Abstract: Section 1202 of the Elementary and Secondary Act describes information to be included in the annual performance report required of Reading First grantees. Submission of the annual performance report (APR) via the data collection site has been taking place since 2004 and will continue to occur between October 15 and November 30 of each year. If APR data submitted during this timeframe are incomplete or inaccurate or if re-submission of data is requested by state education agencies (SEAs), additional data collection may occur at other times throughout the year. The Government Performance and Results Act (GPRA) report provides national-level achievement data for all comprehension and fluency outcome measures for each year of program implementation. The national-level information includes an average of the percentage of proficient students in SEAs administering the Dynamic Indicators of Basic Early Literacy Skills (DIBELS) Oral Reading Fluency measure and the number of SEAs showing improvement in proficiency rates on each SEA's comprehension measure from the previous year to the current year. All schools are included in the GPRA report, regardless of when schools began implementation of the Reading First program.

Requests for copies of the information collection submission for OMB review may be accessed from http://edicsweb.ed.gov, by selecting the “Browse Pending Collections” link and by clicking on link number 4124. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E9-27409 Filed 11-13-09; 8:45 am]

BILLING CODE 4000-01-P